DEPARTMENT OF ENERGY

Federal Energy Regulatory Commission

Combined Notice of Filings

Take notice that the Commission has received the following Natural Gas Pipeline Rate and Refund Report filings:

Filings Instituting Proceedings

Docket Numbers: RP19-299-001.

Applicants: Transcontinental Gas Pipe Line Company.

Description: Compliance filing Housekeeping Filing—Table of Contents to be effective 12/1/2018.

Filed Date: 12/20/18.

Accession Number: 20181220-5156.

Comments Due: 5 p.m. ET 12/28/18.

Docket Numbers: RP19-461-001.

Applicants: UGI Mt. Bethel Pipeline, LLC.

Description: eTariff filing per 1430: Form 501-G Errata to be effective N/A.

Filed Date: 12/20/18.

Accession Number: 20181220-5213.

Comments Due: 5 p.m. ET 12/28/18.

Docket Numbers: RP19-462-001.

Applicants: UGI Sunbury, LLC.

Description: eTariff filing per 1430: Form 501-G Errata to be effective N/A.

Filed Date: 12/20/18.

Accession Number: 20181220-5212.

Comments Due: 5 p.m. ET 12/28/18.

Docket Numbers: RP19-479-000.

Applicants: Texas Gas Transmission, LLC.

Description: § 4(d) Rate Filing: Remove Expired/Expiring Agreements from Tariff eff 1-1-2019 to be effective 1/1/2019.

Filed Date: 12/20/18.

Accession Number: 20181220-5039.

Comments Due: 5 p.m. ET 1/2/19.

Docket Numbers: RP19-480-000.

Applicants: Algonquin Gas Transmission, LLC.

Description: § 4(d) Rate Filing: Negotiated Rate—Boston Gas to BBPC 798407 eff 1-1-19 to be effective 1/1/2019.

Filed Date: 12/20/18.

Accession Number: 20181220-5207.

Comments Due: 5 p.m. ET 1/2/19.

Docket Numbers: RP19-481-000.

Applicants: Dominion Energy Transmission, Inc.

Description: § 4(d) Rate Filing: DETI—December 20, 2018 Negotiated Rate Agreement to be effective 1/1/2019.

Filed Date: 12/20/18.

Accession Number: 20181220-5232.

Comments Due: 5 p.m. ET 1/2/19.

Docket Numbers: RP19-482-000.

Applicants: Transcontinental Gas Pipe Line Company.

Description: § 4(d) Rate Filing: Clean Up Filing Fuel Matrices and Gulf Connector Commodity Rate to be effective 12/1/2018.

Filed Date: 12/20/18.

Accession Number: 20181220-5248.

Comments Due: 5 p.m. ET 1/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2018.
Nathaniel J. Davis, Sr.,
Deputy Secretary.

[FR Doc. 2018-28414 Filed 12-28-18; 8:45 am]

BILLING CODE 6717-01-P